DEPARTMENT OF THE INTERIOR

Bureau of Land Management

[WY-957400-09-14200000-BJ0000]

Notice of Filing of Plats of Survey, Wyoming

AGENCY: Bureau of Land Management, Interior.

ACTION: Notice of Filing of Plats of Survey, Wyoming.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the dependent resurvey of a portion of the east boundary, the north boundary and the subdivisional lines, and the subdivision of sections 5 and 23, Township 30 North, Range 107 West, of the Sixth Principal Meridian, Wyoming, Group No. 688, was accepted November 17, 2008.

The plat and field notes representing the dependent resurvey of the Thirteenth Auxiliary Guide Meridian West through Township 30 North, between Ranges 108 and 109 West, the east and north boundaries, and the subdivisional lines, Township 30 North, Range 108 West, of the Sixth Principal Meridian, Wyoming, Group No. 688, was accepted November 17, 2008.

The plat representing the entire record of the dependent resurvey of a portion of the subdivisional lines, designed to restore the corners in their true original locations according to the best available evidence, Township 27 North, Range 102 West, Sixth Principal Meridian, Wyoming, Group No. 771, was accepted November 17, 2008.

The plat and field notes representing the dependent resurvey of the subdivisional lines, Township 21 North, Range 93 West, Sixth Principal Meridian, Wyoming, Group No. 772, was accepted November 17, 2008.

The plat representing the entire record of the corrective dependent resurvey of a portion of the subdivisional lines, designed to restore the corners to their original locations according to the best available evidence, Township 47 North, Range 78 West, Sixth Principal Meridian, Wyoming, Group No. 773, was accepted November 17, 2008.

Copies of the preceding described plats and field notes are available to the public at a cost of $1.10 per page.

Dated: January 7, 2009.
John P. Lee,
Chief Cadastral Surveyor, Division of Support Services.

[FR Doc. E9-454 Filed 1-12-09; 8:45 am]

BILLING CODE 4310-22-P